DEPARTMENT OF HOMELAND SECURITY

U.S. Customs and Border Protection

Agency Information Collection Activities: Passenger and Crew Manifest

AGENCY: U.S. Customs and Border Protection, Department of Homeland Security.

ACTION: 60-Day Notice and request for comments; Extension of an existing collection of information.

SUMMARY: As part of its continuing effort to reduce paperwork and respondent burden, U.S. Customs and Border (CBP) invites the general public and other Federal agencies to comment on an information collection requirement concerning the Passenger and Crew Manifest (Advance Passenger Information System). This request for comment is being made pursuant to the Paperwork Reduction Act of 1995 (Pub. L. 104-13).

DATES: Written comments should be received on or before November 12, 2013 to be assured of consideration.

ADDRESSES: Direct all written comments to U.S. Customs and Border Protection, Attn.: Tracey Denning, Office of Regulations and Rulings, 90 K Street NE., 10th Floor, Washington, DC 20229-1177.

FOR FURTHER INFORMATION CONTACT: Requests for additional information should be directed to Tracey Denning, U.S. Customs and Border Protection, Office of Regulations and Rulings, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3506(c)(2)(A)). The comments should address the accuracy of the burden estimates and ways to minimize the burden including the use of automated collection techniques or the use of other forms of information technology, as well as other relevant aspects of the information collection. The comments that are submitted will be summarized and included in the CBP request for Office of Management and Budget (OMB) approval. All comments will become a matter of public record. In this document CBP is soliciting comments concerning the following information collection:

Title: Passenger and Crew Manifest (Advance Passenger Information System)

OMB Number: 1651-0088

Form Number: None

Abstract: The Advance Passenger Information System (APIS) is an automated method in which U.S. Customs and Border Protection (CBP) receives information about passengers and crew onboard inbound and outbound international flights before their arrival in or departure from the United States. APIS data includes biographical information for international air passengers arriving in or departing from the United States, allowing the data to be checked against CBP databases.

The information is submitted for both commercial and private aircraft flights. Specific data elements required for each passenger and crew member include: full name; date of birth; gender; citizenship; document type; passport number; country of issuance and expiration date; and alien registration number where applicable.

APIS is authorized under the Aviation and Transportation Security Act, Public Law 107-71. Under this statute, the transmission of passenger and crew manifest information is required even for flights where the passengers and crew have already been pre-screened or pre-cleared at the foreign location for admission to the United States. APIS is required under 19 CFR 122.49a, 122.49b, 122.49c, 122.75a, 122.75b, and 122.22.

Respondents submit their electronic manifest either through a direct interface with CBP, or using eAPIS which is a web-based system that can be accessed at https://eapis.cbp.dhs.gov/.

Current Actions: This submission is being made to request an extension with no change to the burden hours or to the information collected.

Type of Review: Extension with no change

Affected Public: Businesses, Individuals

Commercial Airlines:

Estimated Number of Respondents: 1,130

Estimated Number of Total Annual Responses: 1,850,878

Estimated Time per Response: 10 minutes

Estimated Total Annual Burden Hours: 307,245

Estimated Costs: $68,361,719

Commercial Airline Passengers (3rd party):

Estimated Number of Respondents: 184,050,663

Estimated Number of Total Annual Responses: 184,050,663

Estimated Time per Response: 10 seconds

Estimated Total Annual Burden Hours: 496,937

Private Aircraft Pilots:

Estimated Number of Respondents: 460,000

Estimated Number of Total Annual Responses: 460,000

Estimated Time per Response: 15 minutes

Estimated Total Annual Burden Hours: 115,000

Dated: September 4, 2013.
Tracey Denning,
Agency Clearance Officer, U.S. Customs and Border Protection.

[FR Doc. 2013-22001 Filed 9-9-13; 8:45 am]

BILLING CODE 9111-14-P